POSTAL REGULATORY COMMISSION

[Docket No. MC2015-18; Order No. 2278]

New Postal Product

AGENCY: Postal Regulatory Commission.

ACTION: Notice.

SUMMARY: The Commission is noticing a recent Postal Service filing concerning a minor classification change regarding Global Reseller Expedited Package Contracts. This notice informs the public of the filing, invites public comment, and takes other administrative steps.

DATES: Comments are due: December 17, 2014.

ADDRESSES: Submit comments electronically via the Commission's Filing Online system at http://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION:

Table of Contents

I. Introduction

II. Notice of Commission Action

III. Ordering Paragraphs

I. Introduction

On December 9, 2014, the Postal Service filed a notice of minor classification changes regarding the competitive mail product Global Reseller Expedited Package Contracts under Commission rules 39 CFR 3020.90 and 3020.91.¹ The Postal Service also presents, as Attachment 1, proposed changes to the Mail Classification Schedule (MCS) regarding the description of preparation requirements for Global Reseller Expedited Package Contracts. Id. at 2; Attachment 1.

¹ Notice of Minor Classification Change, December 9, 2014 (Notice).

The Postal Service states that the proposed changes are minor in nature and are consistent with 39 U.S.C. 3642.

MCS change. The Postal Service seeks to revise the postage payment requirements for the reseller's customers. Notice at 1. The revisions would allow the Postal Service to offer Global Reseller Expedited Package Contracts to resellers whose customers use various postage payment methods authorized by the Postal Service and would enable the Postal Service to offer its own permit shipping software to resellers. Notice at 2.

II. Notice of Commission Action

Pursuant to 39 CFR 3020.92, the Commission has posted the Notice on its Web site and invites comments on whether the Postal Service's filings in Docket No. MC2015-18 are consistent with the policies of 39 U.S.C. 3642 and 39 CFR 3020 subpart E. Comments are due no later than December 17, 2014. The public portions of these filings can be accessed via the Commission's Web site (http://www.prc.gov).

The Commission appoints Mallory L. Smith to represent the interests of the general public (Public Representative) in this docket.

III. Ordering Paragraphs

It is ordered:

1. The Commission establishes Docket No. MC2015-18 to consider matters raised by the Notice.

2. Pursuant to 39 U.S.C. 505, Mallory L. Smith is appointed to serve as an officer of the Commission (Public Representative) to represent the interests of the general public in this proceeding.

3. Comments by interested persons are due by December 17, 2014.

4. The Secretary shall arrange for publication of this Order in the Federal Register.

By the Commission.
Shoshana M. Grove,
Secretary.

[FR Doc. 2014-29333 Filed 12-15-14; 8:45 am]

BILLING CODE 7710-FW-P